DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Form Number, and OMB Number: Civil Aircraft Landing Permit System; OMB Number 0701-0050; DD Form 2400, 2401, 2402; OMB Number 0701-0050.

Type of Request: Reinstatement.

Number of Respondents: 3,600.

Responses per Respondent: 1.

Annual Responses: 3,600.

Average Burden per Response: 30 minutes.

Annual Burden Hours: 1,800.

Needs and Uses: The information collection requirement is necessary to ensure that the security and operational integrity of military airfields are maintained; to identify the aircraft operator and the aircraft to be operated; to avoid competition with the private sector by establishing the purpose for use of military airfields; and to ensure the U.S. Government is not held liable if the civil aircraft becomes involved in an accident or incident while using military airfields, facilities, and services.

Affected Public: Business of Other For-Profit; Not-For-Profit Institutions; Individuals or Households.

Frequency: On Occasion.

Respondent's Obligation: Required to obtain or retain benefits.

Pamela Fitzgerald,
Air Force Federal Register Liaison Officer.

[FR Doc. 03-29710 Filed 11-26-03; 8:45 am]

BILLING CODE 3810-01-P